FEDERAL COMMUNICATIONS COMMISSION

[DA 04-2596]

Audit of Operational Status of Licenses in the Paging and Radiotelephone Service and 929-930 MHz and on Exclusive Channels

AGENCY: Federal Communications Commission.

ACTION: Notice.

SUMMARY: In this document the Wireless Telecommunications Bureau (Bureau) announces a license audit of the operational status of all site-specific licenses operating under part 22, Paging and Radiotelephone Service with a “CD” radio service code and all site-specific licenses operating in the 929-930 MHz band on exclusive channels with a “GS” radio service code, excluding those licensees in the “GS” service operating on shared channels, is scheduled to begin during the week of September 27, 2004. Licensees must verify their mailing address on record in the Universal Licensing System for each license held and, where appropriate, update the information. Further, licensees must register with the Commission Registration System (CORES) to receive its FCC Registration Number (FRN) and has associated the FRN with each license held, and to respond to the audit letter electronically, via the internet, within forty-five (45) calendar days from the date on the audit letter.

ADDRESSES: Federal Communications Commission 445 12th Street, SW., TW-A325, Washington, DC 20554.

FOR FURTHER INFORMATION CONTACT: Denise D. Walter, Mobility Division, at 202-418-0620.

SUPPLEMENTARY INFORMATION: This is a summary of the Federal Communications Commission's Public Notice, DA 04-2596, released on August 24, 2004. The full text of this document is available for inspection and copying during normal business hours in the Federal Communications Commission Reference Center, 445 12th Street, SW., Washington, DC 20554. The complete text may be purchased from the Federal Communications Commission's copy contractor, Best Copy & Printing, Inc., 445 12th Street, SW., Room CY-B402, Washington, DC 20554. The full text may also be downloaded at http://wireless.fcc.gov. Alternative formats are available to persons with disabilities by contacting Brian Millin at (202) 418-7426 or TTY (202) 418-7365 or at bmillin@fcc.gov.

1. The Federal Communications Commission's (FCC) Wireless Telecommunications Bureau (Bureau) will be conducting a license audit of the operational status of all site-specific licenses operating under part 22, Paging and Radiotelephone Service, subpart E, with a “CD” radio service code and all site-specific licenses operating in the 929-930 MHz band on the exclusive channels with a “GS” radio service code, wherein all licensees listed, except for licensees in the “GS” service operating on shared channels, must respond to the audit letter and certify that its authorized station(s) has not permanently discontinued operations from the date of initial construction and operation. The audit is being performed to promote intensive use of the radio spectrum by updating and increasing the accuracy of the Commission's licensing database.

2. To prepare for the audit, the Bureau strongly encourages licensees in these radio services to verify the mailing address for each license held prior to September 25, 2004. Licensees can verify the accuracy of the Commission's information by accessing the License Search function in the Universal Licensing System (ULS) at http://wireless.fcc.gov/uls. If the information is incorrect, the licensee should use ULS to electronically file an Update application.

3. Another important step a licensee should take to prepare for the audit is to ensure that it has registered in CORES, received an FRN, and associated the FRN with all licenses held. This should be done by September 25, 2004.

4. The Bureau will send letters to all licensees operating in the “CD” and “GS” (exclusive channels) radio services inquiring about the operational status of each license held. The letters will be mailed during the week of September 27, 2004. Each letter will include the call signs of the licensee's authorizations involved in this audit and will be directed to each licensee at its address of record in ULS. A licensee will receive only one audit letter if the licensee has, by September 25, 2004, verified the address is listed correctly in ULS, obtained its FRN, and associated its call signs with the FRN. If the licensee has not performed these activities by September 25, 2004, the Bureau will attempt to include all of a licensee's call signs subject to this audit in one letter, but may issue more than one letter for an entity due to slight variations in licensee name or address in the Commission's licensing records. If a licensee receives multiple letters, the licensee must respond to each letter in order to account for all its call signs that are part of this audit. If a licensee holds authorizations in one of these radio services (“CD” and “GS” exclusive channels) and does not receive an audit letter, the licensee must still respond to the audit. In order to determine if a particular license is a part of the audit, licensees should use Audit Search at http://wireless.fcc.goc/licensing/audits after the audit letters have been mailed (scheduled for the week of September 27, 2004). If the search shows an audit letter was mailed, the licensee is required to respond to the audit using the audit reference number. For instructions on how to proceed in this instance, licensees can call the Commission at 717-338-2888 or 888-CALLFCC (888-225-5322) and select option 2.

5. A response to the audit letter is mandatory. The process for responding to the audit and the internet site will be included in the audit letter. Each licensee is required to submit its response electronically within forty-five (45) calendar days of the date on the audit letter. Failure to provide a timely response may result in the Commission presuming that the station(s) has permanently discontinued operations pursuant to 47 CFR 22.317, and thus the license may be presumed to have automatically cancelled. Failure to provide a timely response may also result in a enforcement action, including monetary forfeiture, pursuant to section 503(b)(1)(B) of the Communications Act and 47 CFR 1.80(a)(2).

Federal Communications Commission.
Marlene H. Dortch,
Secretary.

[FR Doc. 04-20361 Filed 9-7-04; 8:45 am]

BILLING CODE 6712-01-P